FEDERAL COMMUNICATIONS COMMISSION

Information Collection(s) Being Submitted for Review and Approval to the Office of Management and Budget (OMB)

AGENCY: Federal Communications Commission.

ACTION: Notice; request for comments.

SUMMARY: As part of its continuing effort to reduce paperwork burden and as required by the Paperwork Reduction Act (PRA) of 1995, the Federal Communications Commission invites the general public and other Federal agencies to take this opportunity to comment on the following information collection(s). Comments are requested concerning: Whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before July 17, 2013. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, FCC, at 202-418-0214.

SUPPLEMENTARY INFORMATION: OMB Control Number: 3060-0261.

Title: Section 90.215, Transmitter Measurements.

Form No.: N/A.

Type of Review: Extension of a currently approved collection.

Respondents: Business or other for-profit, not-for-profit institutions and state, local or tribal Government.

Number of Respondents: 174,661 respondents; 369,495 responses.

Estimated Time per Response: .33 hours.

Frequency of Response: Recordkeeping requirement.

Obligation to Respond: Required to obtain or retain benefits. Statutory authority for this information collection is contained in 47 U.S.C. section 303(f) of the Communications Act of 1934, as amended.

Total Annual Burden: 12,193 hours.

Total Annual Cost: N/A.

Privacy Act Impact Assessment: N/A.

Nature and Extent of Confidentiality: There is no need for confidentiality.

Needs and Uses: The Commission will submit this expiring information collection to the Office of Management and Budget (OMB) during this 30 day comment period in order to obtain the full three year clearance from them. The Commission is requesting OMB approval for an extension (no change in the recordkeeping requirement).

There is a change in the Commission's previous burden estimates. Accordingly to the Commission's Universal Licensing System (ULS), a total of 174,661 licensees are required to make 369,495 transmitter measurements.

Section 90.215 requires station licensees to measure the carrier frequency, output power, and modulation of each transmitter authorized to operate with power in excel of two watts when the transmitter is initially installed and when any changes are made which would likely affect the modulation characteristics. Such measurements, which help ensure proper operation of transmitters, are to be made by a qualified engineering measurement service, and are required to be retained in the station records, along with the name and address of the engineering measurement service, and the name of the person making the measurements.

The information is normally used by the licensee to ensure that equipment is operating within prescribed tolerances. Prior technical operation of transmitters helps limit interference to other users and provides the licensee with the maximum possible utilization of equipment.

OMB Control Number: 3060-XXXX.

Title: Section 87.287, Aeronautical Advisory Stations (Unicoms)—“Squitters”.

Form No.: N/A.

Type of Review: New collection.

Respondents: Individuals or households, business or other for-profit, not-for-profit institutions and state, local or tribal Government.

Number of Respondents: 200 respondents; 200 responses.

Estimated Time per Response: 1 hour.

Frequency of Response: On occasion reporting requirement and third party disclosure requirement.

Obligation to Respond: Required to obtain or retain benefits. Statutory authority for this information collection is contained in 47 U.S.C. section 151, 154(i), 154(j), 155, 157, 225, 303® and 309 of the Communications Act of 1934, as amended.

Total Annual Burden: 200 hours.

Total Annual Cost: $28,750.

Privacy Act Impact Assessment: Yes. The Commission has a system of records for this information collection, FCC/WTB-1, “Wireless Services Licensing Records”, which covers the personally identifiable information (PII) that individual applicants may include in their submissions for licenses or grants of equipment authorization. At such time as the Commission revises this System of Records Notice (SORN), the Commission will conduct a Privacy Act Impact Assessment (PIA) and publish the revised SORN in the Federal Register. In addition, the Commission will post a copy of both the PIA and the SORN on the FCC's Privacy Web page.

Nature and Extent of Confidentiality: There is a need for confidentiality with respect to filers who are individuals in this collection. Pursuant to section 208(b) of the E-Government Act of 1002, 44 U.S.C. 3501, in conformance with the Privacy Act of 1974, 5 U.S.C. 552(a), the Commission's Wireless Telecommunications Bureau instructs licensees to use the FCC's Universal Licensing System (ULS), Antenna Structure Registration (ASR), Commission Registration System (CORES) and related systems and subsystems to submit information.

Needs and Uses: The Commission will submit this new information collection to the Office of Management and Budget (OMB) during this 30 day comment period in order to obtain the full three year clearance from them. The Commission is requesting OMB approval for a new information collection resulting in a minor increase in burden on the public.

On March 1, 2013, the Commission released a Report and Order, FCC 13-30, which amended its Part 87 rules to authorize new ground station technologies that will promote aviation safety, and allow use of frequency 1090 MHz by aeronautical utility mobile stations for airport surface detection equipment, commonly referred to as vehicle “squitters”, to help reduce collisions between aircraft and the airport ground vehicles. “Squitter” refers to random output pulses from a transponder caused by ambient noise or by an international random triggering system, but not by the interrogation pulses. Further, the Commission establishes service rules for audio visual warning systems to help aircraft in flight avoid antenna structures and other obstacles, and adopts rules to permit ground testing of aviation data link test systems. However, in this R&O, the Commission declined to authorize remote monitoring of certain automated ground stations.

Section 87.287(b) requires that before submitting an application for an aircraft data link land test station, an applicant must obtain written permission from the licensee of the aeronautical enroute stations serving the areas in which the aircraft data link land test station will operate on a co-channel basis. The Commission may request an applicant to provide documentation to that fact.

The written permission will aid the Commission in ensuring that licensees are complying with its policies and rules, while allowing the owners of antenna structures and other aviation obstacles to use Audio Visual Warning Systems (AVWS) stations, thereby helping aircraft avoid potential collisions and enhancing aviation safety, without causing harmful interference to other communications.

OMB Control Number: 3060-XXXX.

Title: Signal Boosters—Sections 1.1307(b)(1), 20.3, 20.21(a)(2), 20.29(a)(5), 20.21(e)(2), 20.21(e)(8)(i)(G), 20.21(e)(9)(i)(H), 20.21(f), 20.21(h), 22.9, 24.9, 27.9, 90.203, 90.219(b(1)(i) and 90.219(e)(5).

Form No.: N/A.

Type of Review: New collection.

Respondents: Individuals or households; business or other for-profit, not-for-profit institutions..

Number of Respondents: 632,444 respondents; 632-444 responses.

Estimated Time per Response: .5 hours to 40 hours.

Frequency of Response: Recordkeeping requirement, third party disclosure requirement and on occasion and annual reporting requirements.

Obligation to Respond: Required to obtain or retain benefits. Statutory authority for this information collection is contained in 47 U.S.C. sections 154(i), 303(g), 303(r) and 332(a) of the Communications Act of 1934, as amended.

Total Annual Burden: 324,370 hours.

Total Annual Cost: N/A.

Privacy Act Impact Assessment: N/A.

Nature and Extent of Confidentiality: There is a need for confidentiality with respect to filers who are individuals in this collection. Pursuant to Section 208(b) of the E-Government Act of 2002, 44 U.S.C. section 3501, in conformance with the Privacy Act of 1974, 5 U.S.C. 552(a), the Wireless Telecommunications Bureau instructs licensees to use the FCC's Universal Licensing System (ULS), Antenna Structure Registration (ASR), Commission Registration System (CORES) and related systems and subsystems to submit information.

Needs and Uses: The Commission will submit this new information collection to the Office of Management and Budget (OMB) during this 30 day comment period in order to obtain the full three year clearance from them. The Commission is reporting a 324,370 hour increase in burden (program change increase).

The Commission adopted a Report and Order, FCC 13-21, which adopts new technical, operational, and registration requirements for signal boosters. The new rules create two new classes of signal boosters—consumer and industrial—with distinct regulatory requirements.

Consumer Signal Boosters are designed to be used “out of the box” by individuals to improve their wireless coverage within a limited area such as a home, car, boat, or recreational vehicle. Consumer Signal Boosters will be authorized under provider licenses subject to certain requirements. Specifically, subscribers must obtain some form of licensee consent to operate the booster; register the booster with their provider; use a booster that meets the Network Protection Standard and is FCC certified; and operate the booster on a secondary, non-interference basis and shut it down if it causes harmful interference. Consumers may continue to use existing signal boosters provided they are: (1) Have the consent of their provider; and (2) register the booster with that provider. The Commission will conduct consumer outreach to educate consumers, public safety entities, small businesses, and other about the new regulatory framework.

Industrial Signal Boosters include a wide variety of devices that are designed for installation by licensees or qualified installers. These devices are typically designed to serve multiple users simultaneously and cover large areas such as stadiums, airports, office buildings, hospitals, tunnels, and educational campuses. Industrial Signal Boosters require a FCC license or express licensee consent to operate, and must be appropriately labeled.

The Commission established a two-step transition process for equipment certification for Consumer and Industrial Signal Boosters sold and marketed in the United States. First, as of the release date of the Report and Order, the Commission stopped accepting applications for equipment certification of Consumer and Industrial Signal Boosters that do not comply with the new rules and ceased certification of devices that do not comply with the new rules. Second, on or after March 1, 2014, all Consumers and Industrial Signal Boosters sold and marketed in the United States must meet the new requirement.

Finally, the Commission has created an on-line database with screen shots for the Registration Requirements. Screen shots are included in the submission to the OMB and can be viewed in ROCIS (OMB's electronic PRA system).

The Commission will use the information collected from the provider reporting requirement to assess providers' treatment of Consumer Signal Boosters, including the level of consumer access. This information will inform the Commission's decision whether it is necessary to revisit the Consumer Signal Booster authorization mechanism. The provider-based registration requirement will facilitate licensee control over Consumer Signal Boosters, help providers rapidly resolve interference issues, and assist in consumer outreach. The labeling and marketing requirements will inform signal booster operators of their legal responsibilities, facilitate coordination with providers, and assist in interference prevention. The Part 90 registration requirement will help resolve interference should it occur. The RF labeling requirement will inform consumers about the potential RF safety hazards and reference the applicable FCC-adopted limits for RF exposure. The certification requirements will ensure that manufacturers comply with our new technical rules for Consumer and Industrial Signal Boosters. The antenna kitting documentation requirement will aid consumers in the correct installation and use of their devices so as to mitigate interference. The consent documentation requirement will ensure that signal booster operators have the proper authority to operate their devices.

Federal Communications Commission.
Marlene H. Dortch,
Secretary, Office of the Secretary, Office of Managing Director.

[FR Doc. 2013-14283 Filed 6-14-13; 8:45 am]

BILLING CODE 6712-01-P